DEPARTMENT OF THE INTERIOR

Bureau of Land Management

[LLNM950000L13400000.BX0000 17X]

Notice of Filing of Plats of Survey, New Mexico

AGENCY: Bureau of Land Management, Interior.

ACTION: Notice of Official Filing.

SUMMARY: The Bureau of Land Management (BLM) will file the plats of survey of the lands described in this notice in the BLM New Mexico State Office, Santa Fe, New Mexico, 30 calendar days from the date of this publication. The surveys, which were executed at the request of the BLM Albuquerque District Office and the U.S. Forest Service (USFS) Cimarron Ranger District, are necessary for the management of these lands.

DATES: A person or party who wishes to protest one of the surveys must file a written notice by July 28, 2017.

ADDRESSES: Written notices protesting a survey must be sent to the New Mexico State Director, BLM New Mexico State Office, 301 Dinosaur Trail, Santa Fe, New Mexico 87502.

FOR FURTHER INFORMATION CONTACT: Carlos Martinez, Supervisory Lands & Minerals Records Specialist, BLM New Mexico State Office, 301 Dinosaur Trail, Santa Fe, New Mexico 87502; telephone 505-954-2096, or cjjmarti@blm.gov. Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: The lands surveyed are:

New Mexico Principal Meridian, New Mexico

The plat, in three sheets, representing the dependent resurvey and survey, in Township 11 North, Range 6 East, of the New Mexico Principal Meridian, accepted February 6, 2017, for Group 1166 NM.

Sixth Principal Meridian, Kansas

The plat representing the dependent resurvey and survey in Township 33 South, Range 41 West, of the Sixth Principal Meridian, accepted February 8, 2017, for Group 39 KS.

A copy of the plat and related field notes will be placed in the open files. They will be available for public review in the BLM New Mexico State Office as a matter of information.

A person or party who wishes to protest against one of the above surveys must file a written notice within 30 calendar days from the date of this publication with the New Mexico State Director, BLM, at the address listed in the ADDRESSES section, stating that they wish to protest. A statement of reasons for the protest may be filed with the notice of protest and must be filed with the New Mexico State Director within 30 calendar days after the protest is filed. If a protest against a survey is received prior to the date of official filing, the filing will be stayed pending consideration of the protest. The plat will not be officially filed until the day after all protests have been dismissed or otherwise resolved.

Before including your address, phone number, email address, or other personal identifying information in your protest, you should be aware that your entire protest—including your personal identifying information—may be made publicly available at any time. While you can ask us to withhold your personal identifying information from public review, we cannot guarantee that we will be able to do so.

Authority: 43 U.S.C. Chap. 3.

Charles I. Doman,
Chief, Branch of Cadastral Survey.

[FR Doc. 2017-13531 Filed 6-27-17; 8:45 am]

BILLING CODE 4310-FB-P